DEPARTMENT OF JUSTICE

Notice of Lodging of Proposed Consent Decree Under the Clean Air Act

Notice is hereby given that, for a period of 30 days, the United States will receive public comments on a proposed Consent Decree in United States v. Keystone Consolidated Industries, Inc., d/b/a Keystone Steel and Wire Company (1:16-cv-01057-MMM-JEH), which was lodged with the United States District Court for the Central District of Illinois on February 12, 2016.

The Complaint in this case was filed against Keystone Consolidated Industries, Inc. (“Keystone”) concurrently with the lodging of the proposed Consent Decree. This is a civil action brought pursuant to section 113(b) of the Clean Air Act (“CAA”), as amended, 42 U.S.C. 7413(b), to obtain injunctive relief and civil penalties from Keystone for violations at its integrated steel mini-mill located in Peoria, Peoria County, Illinois, of the Prevention of Significant Deterioration of Air Quality provisions of the CAA, 42 U.S.C. 7470-7492; the Illinois State Implementation Plan; CAA title V, 42 U.S.C. 7661-7661f, and its implementing regulations set forth at 40 CFR part 70; and the Illinois Environmental Protection Act, 415 Ill. Comp. Stat. 5/39.5, through which the State of Illinois administers its Clean Air Act Permit Program pursuant to 42 U.S.C. 7661-7661c. Under the proposed Consent Decree, Keystone will pay a civil penalty of $565,000, install and use a sulfur dioxide continuous emissions monitoring system, comply with specified sulfur dioxide emissions limits at its Arc Shop, make required modifications to each of its baghouse fan motors, develop for EPA approval a preventative maintenance and operation plan for all its emissions, and perform and complete a root cause failure analysis for any extended duration heat.

The publication of this notice opens a period for public comment on the proposed Consent Decree. Comments should be addressed to the Assistant Attorney General, Environment and Natural Resources Division, and should refer to United States v. Keystone Consolidated Industries, Inc., D.J. Ref. No. 90-5-2-1-09880. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ-ENRD, P.O. Box 7611, Washington, DC 20044-7611.

Please enclose a check or money order for $21.50 (25 cents per page reproduction cost) payable to the United States Treasury.

Randall M. Stone,
Acting Assistant Section Chief, Environmental Enforcement Section, Environment and Natural Resources Division.

[FR Doc. 2016-03741 Filed 2-22-16; 8:45 am]

BILLING CODE 4410-15-P